DEPARTMENT OF COMMERCE

National Oceanic and Atmospheric Administration

Agency Information Collection Activities; Submission to the Office of Management and Budget (OMB) for Review and Approval; Comment Request; Central Gulf of Alaska Rockfish Program: Permits and Reports

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 20, 2023.

ADDRESSES: Interested persons are invited to submit written comments to Adrienne Thomas, NOAA PRA Officer, at NOAA.PRA@noaa.gov. Please reference OMB Control Number 0648-0545 in the subject line of your comments. Do not submit Confidential Business Information or otherwise sensitive or protected information.

FOR FURTHER INFORMATION CONTACT: Requests for additional information or specific questions related to collection activities should be directed to Gabrielle Aberle, National Marine Fisheries Service, P.O. Box 21668, Juneau, AK, 99802-1668. Telephone 907-586-7356.

SUPPLEMENTARY INFORMATION:

I. Abstract

The National Marine Fisheries Service (NMFS), Alaska Regional Office, is requesting extension of a currently approved information collection.

This information collection contains requirements for the Central Gulf of Alaska Rockfish Program (Rockfish Program) and is necessary for NMFS to administer and monitor compliance with the management provisions of the Rockfish Program. This information collection is required in Rockfish Program regulations at 50 CFR part 679.

The Rockfish Program is a limited access privilege program developed to enhance resource conservation and improve economic efficiency in the Central Gulf of Alaska rockfish fisheries. The rockfish fisheries are conducted in Federal waters near Kodiak, Alaska, by trawl vessels and longline vessels. The Rockfish Program assigns quota share (QS) to License Limitation Program (LLP) licenses for rockfish primary and secondary species based on legal landings associated with that LLP.

Each year, an LLP license holder assigns the LLP license with rockfish QS to a rockfish cooperative. Each rockfish cooperative receives an annual cooperative fishing quota (CQ), which is an amount of primary and secondary rockfish species the cooperative is able to harvest in that fishing year.

This collection contains the information collection requirements submitted by the rockfish cooperatives for an annual rockfish CQ permit, inter-cooperative quota transfers, and vessel check-in/check-out and termination of fishing reports.

The Application for Rockfish Cooperative Fishing Quota is submitted annually by a rockfish cooperative to receive the cooperative's annual CQ permit. The application collects rockfish cooperative identification information, LLP holder and ownership documentation for the members of the cooperative applying for QS, identification information for vessels of the cooperative members, shoreside processor associate identification information, certifications of the cooperative representative and processor associate(s) and required attachments.

The Application for Inter-Cooperative Transfer of CQ is used by a rockfish cooperative to transfer CQ to another rockfish cooperative. The information collected includes information on the QS to be transferred. This information is used by NMFS to monitor transfers to ensure they do not exceed ownership or use caps for the fishery.

The Rockfish Program vessel check-in report must be submitted before a vessel authorized to fish under the cooperative's permit starts fishing for the cooperative, and a check-out report when a vessel stops fishing for the cooperative during the fishing season. The check-in and check-out reports are necessary so that NMFS's catch accounting system can identify catch by a vessel that should accrue to a rockfish cooperative quota allocation from catch that occurs in other, non-Rockfish Program fisheries.

A rockfish cooperative may choose to terminate its CQ permit through a termination of fishing report submitted to NMFS. This notifies NMFS that all vessels fishing for the cooperative have completed fishing in the Rockfish Program for the year.

II. Method of Collection

The information is collected by mail, fax, delivery, and electronically through eFISH on the NMFS Alaska Region website at https://alaskafisheries.noaa.gov/webapps/efish/login.

III. Data

OMB Control Number: 0648-0545.

Form Number(s): None.

Type of Review: Regular submission (extension of a current information collection).

Affected Public: Business or other for-profit organizations.

Estimated Number of Respondents: 7.

Estimated Time Per Response: Application for Rockfish Cooperative Fishing Quota: 2 hours; Application for Inter-Cooperative Transfer of Rockfish Cooperative Quota: 10 minutes; Rockfish Program Vessel Check-In/Check-Out and Termination of Fishing Report: 10 minutes.

Estimated Total Annual Burden Hours: 35 hours.

Estimated Total Annual Cost to Public: $35 in recordkeeping and reporting costs.

Respondent's Obligation: Required to Obtain or Retain Benefits; Mandatory.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-20278 Filed 9-18-23; 8:45 am]

BILLING CODE 3510-22-P